DEPARTMENT OF JUSTICE

Office of Justice Programs

[OMB Number 1121-0321]

Agency Information Collection Activities: Proposed Collection; Comments Requested

ACTION: 30-Day Notice of Information Collection Under Review: National Institute of Justice Voluntary Compliance Testing Program.

The Department of Justice, Office of Justice Programs, National Institute of Justice (NIJ) will be submitting the following information collection request to the Office of Management and Budget (OMB) for review and clearance in accordance with review procedures of the Paperwork Reduction Act of 1995. The proposed information collection is published to obtain comments from the public and affected agencies. If granted, the approval is valid for three years. Comments are encouraged and should be directed to the National Institute of Justice, Office of Justice Programs, Department of Justice, Attention: Debra Stoe, 810 7th St., NW., Washington, DC 20531. Comments will be accepted for 30 days until October 5, 2009. This process is conducted in accordance with 5 CFR 1320.10. This proposed information collection was previously published in the Federal Register Volume 74, Number 125, page 31466 on July 1, 2009, allowing for a 60-day comment period.

All comments and suggestions, or questions regarding additional information, to include obtaining a copy of the proposed information collection instrument with instructions, should be directed to NIJ at the above address.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information:

(1) Type of information collection: Existing Collection.

(2) The title of the form/collection: NIJ Body Armor Compliance Testing Program.

This collection consists of five forms: Compliance Testing Program Applicant Agreement; Ballistic Body Armor Model Application and Body Armor Build Sheet; Declaration for Ballistic Body Armor; Compliance Testing Program Conformity Assessment Follow-up Agreement; NIJ-Approved Laboratory Application and Agreement.

(3) Agency Form Number: None. Component Sponsoring Collection: National Institute of Justice, Office of Justice Programs, Department of Justice.

(4) Affected public who will be asked or required to respond, as well as a brief abstract: Primary: Body Armor Manufacturers and Testing Laboratories. Other: None. The purpose of the NIJ Voluntary Compliance Testing Program (CTP) is to ensure to the degree possible that body armor used for law enforcement and corrections applications is safe, reliable, and meets performance requirements over the declared performance period. Body armor models that are successfully tested by the CTP and listed on the NIJ Compliant Products List are eligible for purchase with grant funding through the Ballistic Vest Partnership.

(5) An estimate of the total number of respondents and the amount of time estimated for an average respondent to respond/reply: Total of 60 respondents estimated.

CTP Applicant Agreement: Estimated 50 respondents; 1 hour each;

Ballistic Body Armor Model Application and Body Armor Build Sheet: Estimated 50 respondents (estimated 250 responses) at 30 minutes each;

Declaration for Ballistic Body Armor: Estimated 50 respondents (estimated 250 responses) at 15 minutes each;

CTP Conformity Assessment Follow-up Agreement: Estimated 50 respondents (estimated 250 responses) at 15 minutes each;

NIJ-Approved Laboratory Application and Agreement: Estimated 8 to 10 respondents at 1 hour each.

(6) An estimate of the total public burden (in hours) associated with the collection: The estimated total public burden associated with this information is 310 hours in the first year and 100 hours each subsequent year.

If additional information is required contact: Lynn Bryant, Department Clearance Officer, United States Department of Justice, Justice Management Division, Policy and Planning Staff, Patrick Henry Building, Suite 1600, 601 D Street, NW., Washington, DC 20530.

Dated: August 31, 2009.
Lynn Bryant,
Department Clearance Officer, PRA, U.S. Department of Justice.

[FR Doc. E9-21333 Filed 9-3-09; 8:45 am]

BILLING CODE 4410-18-P